DEPARTMENT OF STATE

[Delegation of Authority No. 514-2]

Delegation of Authority—Authorities of the Under Secretary for Management

By virtue of the authority vested in the Secretary of State by the laws of the United States, including section 1(a)(4) of the State Department Basic Authorities Act (22 U.S.C. 2651a(a)(4)), I hereby delegate to Assistant Secretary Alaina Teplitz, to the extent authorized by law, all authorities vested in or delegated to the Under Secretary for Management by any act, order, determination, delegation of authority, regulation, or executive order, now or hereafter issued.

The Secretary, Deputy Secretary, Deputy Secretary for Management and Resources, and the Under Secretary for Management may exercise any function or authority delegated herein. This delegation of authority does not modify any other delegation of authority currently in effect.

This delegation shall expire upon the entry upon duty of a confirmed Under Secretary for Political Affairs unless sooner revoked and shall be published in the Federal Register.

Dated: March 15, 2024.
Antony J. Blinken,
Secretary of State.

[FR Doc. 2024-06867 Filed 4-1-24; 8:45 am]

BILLING CODE 4710-10-P